INTERNATIONAL TRADE COMMISSION

[Investigation No. 337-TA-440]

In the Matter of Certain 4-Androstenediol; Notice of Commission Determination Not To Review an Initial Determination Finding a Respondent in Default

AGENCY: U.S. International Trade Commission.

ACTION: Notice.

SUMMARY: Notice is hereby given that the U.S. International Trade Commission has determined not to review an initial determination (ID) of the presiding administrative law judge (ALJ) in the above-captioned investigation finding respondent Changzhou Huabang Pharmaceutical Group, Ltd. (Changzhou) in default, and to have waived its rights to appear, to be served with documents, and to contest the allegations at issue in the investigation.

FOR FURTHER INFORMATION CONTACT: Jean Jackson, Esq., Office of the General Counsel, U.S. International Trade Commission, 500 E Street, S.W., Washington, D.C. 20436, telephone 202-205-3104. General information concerning the Commission may also be obtained by accessing its Internet server (http://www.usitc.gov). The public record for this investigation may be viewed on the Commission's electronic docket (EDIS-ON-Line) at http://dockets.usitc.gov/eol.public. Hearing-impaired persons are advised that information on the matter can be obtained by contacting the Commission's TDD terminal on 202-205-1810.

SUPPLEMENTARY INFORMATION: The Commission instituted this investigation, which concerns allegations of unfair acts in violation of section 337 of the Tariff Act of 1930 in the importation and sale of certain 4-androstenediol on December 19, 2000. 65 FR 79424. On April 19, 2001, complainant LPJ, Inc. of Seymour, Illinois, (LPJ) moved pursuant to 19 U.S.C. 1337(a)(1) and Commission rule 210.16 an order directing respondent Changzhou Huabang Pharmaceutical Group, Ltd. (Changzhou) to show cause why it should not be found in default for failure to respond to LPJ's complaint and the Commission's notice of investigation. The Commission investigative attorney (IA) supported LPJ's motion. The presiding administrative law judge (ALJ) (Judge Luckern) issued Order No. 8 on April 30, 2001, directing Changzhou to show cause why it should not be found in default. Changzhou did not respond to the show cause order.

On May 24, 2001, the ALJ issued an ID (Order No. 9) finding Changzhou in default pursuant to Commission rule 210.16, and ruling that it had waived its rights to appear, to be served with documents, and to contest the allegations at issue in the investigation. No petitions for review of the ID were filed.

This action is taken under the authority of section 337 of the Tariff Act of 1930, as amended (19 U.S.C. 1337), and section 210.42 of the Commission's Rules of Practice and Procedure (19 CFR 210.42).

Copies of the ID and all other nonconfidential documents filed in connection with this investigation are available for inspection during official business hours (8:45 a.m. to 5:15 p.m.) in the Office of the Secretary, U.S. International Trade Commission, 500 E. Street, S.W., Washington, D.C. 20436, telephone 202-205-2000.

Issued: June 8, 2001.
By order of the Commission.
Donna R. Koehnke,
Secretary.

[FR Doc. 01-14932 Filed 6-13-01; 8:45 am]

BILLING CODE 7020-02-P